ENVIRONMENTAL PROTECTION AGENCY

[FRL-9106-6]

Notice of Proposed Administrative Settlement Pursuant to the Comprehensive Environmental Response, Compensation, and Liability Act, as Amended by the Superfund Amendments and Reauthorization Act

AGENCY: Environmental Protection Agency.

ACTION: Notice; request for public comment.

SUMMARY: In accordance with Section 122(i) of the Comprehensive Environmental Response, Compensation, and Liability Act, as amended by the Superfund Amendments and Reauthorization Act (“CERCLA”), notice is hereby given that a proposed administrative cost recovery settlement concerning the T.H. Agriculture and Nutrition LLC former Superfund Site (THAN Site) in Fresno, California was executed by the Agency on November 24, 2009. The proposed settlement resolves an EPA claim under Section 107 of CERCLA against the following Respondents: T.H. Agriculture & Nutrition, LLC, Syngenta Crop Protection, Inc., and Olin Corporation. The proposed settlement was entered into under the authority granted EPA in Section 122(h) of CERCLA, and requires the Respondents to pay $600,000.00 to the Hazardous Substances Superfund in settlement of past costs. For thirty (30) days following the date of publication of this notice, the Agency will receive written comments relating to the settlement. The Agency's response to any comments received will be available for public inspection at: U.S. Environmental Protection Agency, Superfund Records Center, 95 Hawthorne Street, Suite 403S, San Francisco, CA 94105, Phone 415-536-2000.

DATES: Comments must be submitted on or before February 25, 2010.

ADDRESSES: The proposed settlement as set forth in the Administrative Consent Order, Docket No. 2009-12 is available for public inspection at the U.S. Environmental Protection Agency at U.S. Environmental Protection Agency, Superfund Records Center, 95 Hawthorne Street, Suite 403S, San Francisco, CA 94105, Phone 415-536-2000. A copy of the Administrative Settlement Agreement for Recovery of Past Costs may be obtained from the U.S. Environmental Protection Agency Region IX, Superfund Records Center at the above address. Comments regarding the proposed settlement should be addressed to Larry Bradfish at the address below, and should reference the THAN Site located in Fresno, California (EPA Docket No. 2009-12).

FOR FURTHER INFORMATION CONTACT: Larry Bradfish, Assistant Regional Counsel, Office of Regional Counsel (ORC-3), U.S. Environmental Protection Agency Region IX, 75 Hawthorne Street, San Francisco, CA 94105, Phone 415-972-3934, E-Mail: bradfish.larry@epa.gov.

Dated: January 15, 2010.
Keith Takata,
Director, Superfund Division, Region 9.

[FR Doc. 2010-1463 Filed 1-25-10; 8:45 am]

BILLING CODE 6560-50-P